DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Evaluation of the Effectiveness of AHRQ's Grant-Supported Research on Healthcare Costs, Productivity, and Market Forces.” In accordance with the Paperwork Reduction Act of 1995, (44 U.S.C. 3506(c)(2)(A)), AHRQ invites the public to comment on this proposed information collection.

This proposed information collection was previously published in the Federal Register on December 28th, 2007 and allowed 60 days for public comment. No public comments were received. The purpose of this notice is to allow an additional 30 days for public comment.

DATES: Comments on this notice must be received by April 14, 2008.

ADDRESSES: Written comments should be submitted to: Doris Lefkowitz, Reports Clearance Officer, AHRQ, by e-mail at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477 or by email at doris.1efkowitz@ahrq.hhs.gov.

SUPPLEMENTARY INFORMATION:

Proposed Project: “Evaluation of the Effectiveness of AHRQ's Grant-Supported Research on Healthcare Costs, Productivity, and Market Forces”

The proposed information collection will support AHRQ's efforts to systematically review the effectiveness of its grant-supported research on healthcare costs, productivity, and market forces since the late 1990s. In the first phase of its ongoing evaluation, AHRQ determined it had funded 149 grants in the area of cost, productivity, organization and market forces since the late 1990s (Krissik, Lake and Gold, 2007). Prior to this proposed information collection, no evaluation of these grants and their effects has been conducted. Collecting such information through a survey of the 149 grantees will assist AHRQ in its mission of supporting the synthesis and dissemination of available scientific evidence for use by patients, consumers, practitioners, providers, purchasers, policymakers, and educators. The survey will provide information on grant activities that is not currently available, including update-to-date information on grantee dissemination activities and feedback on AHRQ's role in supporting research and dissemination.

A survey of the universe of grantees who were funded to carry out the above-described health services research work offers a rational and scientific approach to collecting data on the impact of AHRQ's research in this area that is otherwise not currently available. The survey will be an integral part of AHRQ's overall evaluation, which attempts to describe the research and the pathways through which research findings that it has supported are disseminated and used. The survey interviews principal investigators about their grant research projects and will capture data that systematically track grant outcomes, providing information on: (1) The main substantive findings from the work and the ways they have been communicated; (2) known impacts of the work to date; (3) linkage of work to other research in the field; (4) grantee ratings of the support that AHRQ provided before, during, and after award and how AHRQ services for grantees could be improved; and, (5) grantee perceptions of AHRQ's role in research funding in this area and how sponsor interest influences the topics that are addressed.

Method of Collection

A web-based questionnaire will be used to conduct the survey with AHRQ grantees. A self-administered mode was selected for this survey because respondents may need to look up information in order to answer some questions. A self-administered mode allows respondents to complete the survey at their own pace and schedule. If requested, a hardcopy of the questionnaire will be mailed to the respondent.

Estimated Annual Respondent Burden
Form name | Number of respondents | Number of responses per respondent | Hours per response | Total burden hours
AHRQ Grantee Survey | 149 | 1 | 2 | 298
Total | 149 | na | na | 298

Estimated Annualized Respondent Cost Burden
Form name | Number of respondents | Total burden hours | Average hourly wage rate | Total cost burden
AHRQ Grantee Survey | 149 | 298 | $42.98 | $12,808
Total | 149 | 298 | na | 12,808
* Based upon the mean of the average wages for teachers (college and university), National Compensation Survey: Occupational Wages in the United States 2005, U.S. Department of Labor, Bureau of Labor Statistics.

Estimated Annual Costs to the Federal Government

The proposed information collection is part of a larger evaluation of the effectiveness of AHRQ's grant-supported research on healthcare costs, productivity, and market forces, which includes a systematic review of the research that AHRQ has funded, in-depth interviews with grantees and grant document review, case studies to assess the effects and dissemination pathways of market forces research, and preparation of reports and briefings. The cost to conduct the survey of identified grantees is $38,962.

Request for Comments

In accordance with the above-cited Paperwork Reduction Act legislation, comments on the AHRQ information collection proposal are requested with regard to any of the following: (a) Whether the proposed collection of information is necessary for the proper performance of functions of the Agency, including whether the information will have practical utility; (b) the accuracy of the Agency's estimate of the burden (including hours and costs) of the proposed collection of information; (c) ways to enhance the quality, utility, and clarity of the information to be collected; and (d) ways to minimize the burden of the collection of information on respondents, including the use of automated collection techniques or other forms of information technology. Comments submitted in response to this notice will be summarized and included in the request for OMB approval of the proposed information collection. All comments will become a matter of public record.

Dated: March 5, 2008.
Carolyn M. Clancy,
Director.

[FR Doc. E8-4935 Filed 3-13-08; 8:45 am]

BILLING CODE 4160-90-M